DEPARTMENT OF STATE

[Public Notice 7742]

Notice of Information Collection Under Emergency Review: 60-Day Notice of Proposed Information Collection: DS-234, Special Immigrant Visa Biodata Form, Bureau of Population, Refugees, and Migration, Office of Admissions (PRM/A)

AGENCY: Department of State.

ACTION: Notice of request for emergency OMB approval.

SUMMARY: The Department of State has submitted the following information collection request to the Office of Management and Budget (OMB) for review and approval in accordance with the emergency review procedures of the Paperwork Reduction Act of 1995.

• Title of Information Collection: Special Immigrant Visa Biodata Form.

• OMB Control Number: none.

• Type of Request: Emergency Review.

• Originating Office: Bureau of Population, Refugees, and Migration, Office of Admissions (PRM/A).

• Form Number: DS-234.

• Respondents: Iraqi and Afghan Special Immigrant Visa Applicants.

• Estimated Number of Respondents: 12,000 per year.

• Estimated Number of Responses: 12,000 per year.

• Average Hours per Response: 20 minutes.

• Total Estimated Burden: 4000 hours.

• Frequency: Once per applicant.

• Obligation to respond: Required to Obtain or Retain a Benefit.

The proposed information collection is published to obtain comments from the public and affected agencies. Emergency review and approval of this collection has been requested from OMB by February 29, 2012. If granted, the emergency approval is only valid for 180 days. Direct comments to the Department of State Desk Officer in the Office of Information and Regulatory Affairs at the Office of Management and Budget (OMB).

You may submit comments by the following methods:

• Email: oira_submission@omb.eop.gov. You must include the DS form number, information collection title, and OMB control number in the subject line of your message.

• Fax: (202) 395-5806. Attention: Desk Officer for Department of State.

During the first 60 days of the emergency approval period, a regular review of this information collection is also being undertaken. The submitting agency requests written comments and suggestions from the public and affected agencies concerning the proposed collection of information. Comments will be accepted until 60 days from the date that this notice is published in the Federal Register.

You may submit comments by any of the following methods:

• Email: ssiram@state.gov.

• Mail (paper, disk, or CD-ROM submissions): Office of Admissions, PRM, US. Department of State, 2025 E Street NW., Washington, DC 20522.

You must include the DS form number (if applicable), information collection title, and OMB control number in any correspondence.

FOR FURTHER INFORMATION CONTACT: Direct requests for additional information regarding the collection listed in this notice, including requests for copies of the proposed information collection and supporting documents, to Sumitra Siram, who may be reached on (202) 453-9250 or at SiramS@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Form DS-234 elicits information used to determine the eligibility of Iraqis and Afghan nationals who are applying for special immigrant visas to receive refugee resettlement benefits.

Methodology:

The SIV Biodata information form (DS-234) is submitted electronically by the applicant to the National Visa Center, which will forward the forms to the Refugee Processing Center of the Bureau of Population, Refugees and Migration.

Additional Information:

Dated: December 21, 2011.
Kelly A. Gauger,
Deputy Director, Office of Admissions, Bureau of Population, Refugees, and Migration, Department of State.

[FR Doc. 2011-33286 Filed 12-27-11; 8:45 am]

BILLING CODE 4710-33-P